DEPARTMENT OF THE INTERIOR

Fish and Wildlife Service

50 CFR Part 17

[Docket No. FWS-R2-ES-2023-0069; FXES1111090FEDR-245-FF09E21000]

RIN 1018-BE77

Endangered and Threatened Wildlife and Plants; 6-Month Extension of Final Determination on the Proposed Endangered Species Status for the Toothless Blindcat and the Widemouth Blindcat

AGENCY: Fish and Wildlife Service, Interior.

ACTION: Proposed rule; reopening of comment period.

SUMMARY: We, the U.S. Fish and Wildlife Service (Service), announce a 6-month extension of the final determinations of whether to list the toothless blindcat (Trogloglanis pattersoni) and the widemouth blindcat (Satan eurystomus) as endangered species under the Endangered Species Act of 1973, as amended (Act). We are taking this action based on substantial disagreement regarding the sufficiency and accuracy of the available data relevant to the proposed listing rule, making it necessary to solicit additional information. Therefore, we are also reopening the comment period on the proposed rule for an additional 30 days. Comments previously submitted need not be resubmitted, as they are already incorporated into the public record and will be fully considered in our final determinations.

DATES: The comment period on the proposed rule that published August 22, 2023, at 88 FR 57046, is reopened. We will accept comments received or postmarked on or before September 3, 2024. Comments submitted electronically using the Federal eRulemaking Portal (see ADDRESSES, below) must be received by 11:59 p.m. eastern time on the closing date.

ADDRESSES: You may submit comments by one of the following methods:

(1) Electronically: Go to the Federal eRulemaking Portal: https://www.regulations.gov. In the Search box, enter FWS-R2-ES-2023-0069, which is the docket number for the August 22, 2023, proposed rule and this document. Then click on the Search button. On the resulting page, in the panel on the left side of the screen, under the Document Type heading, check the Proposed Rule box to locate the correct document. You may submit a comment by clicking on “Comment.”

(2) By hard copy: Submit by U.S. mail to: Public Comments Processing, Attn: FWS-R2-ES-2023-0069, U.S. Fish and Wildlife Service, MS: PRB/3W, 5275 Leesburg Pike, Falls Church, VA 22041-3803.

We request that you send comments only by the methods described above. We will post all comments on https://www.regulations.gov. This generally means that we will post any personal information you provide us (see Information Requested, below, for more information).

FOR FURTHER INFORMATION CONTACT: Karen Myers, Field Supervisor, U.S. Fish and Wildlife Service, Austin Ecological Services Field Office, 1505 Ferguson Lane, Austin, TX 78754; telephone 512-937-7371. Individuals in the United States who are deaf, deafblind, hard of hearing, or have a speech disability may dial 711 (TTY, TDD, or TeleBraille) to access telecommunications relay services. Individuals outside the United States should use the relay services offered within their country to make international calls to the point-of-contact in the United States. Please see Docket No. FWS-R2-ES-2023-0069 on https://www.regulations.gov for a document that summarizes the August 22, 2023, proposed rule.

SUPPLEMENTARY INFORMATION:

Background

On August 22, 2023, we published a proposed rule (88 FR 57046) to list the toothless blindcat and the widemouth blindcat as endangered species under the Act (16 U.S.C. 1531 et seq.). On October 12, 2023, we received a request to extend the proposed rule's public comment period; thus, on December 7, 2023, we published a document (88 FR 85177) reopening the proposed rule's public comment period for an additional 30 days.

Section 4(b)(6) of the Act and its implementing regulations at 50 CFR 424.17(a) require that we take one of three actions within 1 year of publication of a proposed listing: (1) Finalize the proposed rule; (2) withdraw the proposed rule; or (3) extend the final determination by not more than 6 months, if there is substantial disagreement regarding the sufficiency or accuracy of the available data relevant to the determination.

Since the August 22, 2023, publication of the proposed rule, there has been ongoing disagreement regarding the interpretation and accuracy of the best available information pertaining to the status of toothless blindcat and widemouth blindcat populations, the species' respective life histories, application of surrogate species, potential extent and use of available habitat, and impact of groundwater well mortality on these species. The substantial nature of this disagreement on the current status of these species became evident during the recently reopened comment period (see 88 FR 85177; December 7, 2023), when differing interpretations of existing information on the two species' biology and habitat use, aquifer dynamics, and specifications and operation of groundwater wells in the City of San Antonio, Texas, were discussed by commenters. There is substantial disagreement regarding the application of mortality estimates applied to groundwater wells to assess fish mortality with alternative modeling approaches recommended. Information was also submitted related to flow dynamics of the Edwards Aquifer and the operational history and engineering specifications of some groundwater wells known to produce toothless blindcats and widemouth blindcats that would reduce probability of well entrainment and expulsion of fish, and thus reduce the probability of mortality of the species.

We find that there is substantial scientific disagreement about certain data relevant to our listing determinations. Therefore, in consideration of this disagreement, we have determined that a 6-month extension of the final determinations for this rulemaking is necessary. We are hereby extending the final determinations for 6 months in order to solicit additional information that will help us clarify these issues and to fully analyze any new data we receive that are relevant to our final listing determinations. With this 6-month extension, the final determinations on the proposed listings of the toothless blindcat and the widemouth blindcat must publish in the Federal Register no later than February 22, 2025.

With this document, we reopen the public comment period on the August 22, 2023, proposed rule (88 FR 57046) for an additional 30 days, as specified above in DATES.

For a description of previous Federal actions concerning the toothless blindcat and the widemouth blindcat and information on the types of comments that would be helpful to us in making final determinations on our proposal, please refer to the August 22, 2023, proposed rule (88 FR 57046 at 57046-57047).

Information Requested

We will accept written comments and information during this reopened comment period on our August 22, 2023, proposed rule to list the toothless blindcat and widemouth blindcat as endangered species under the Act (88 FR 57046). We will consider information and recommendations from all interested parties. We intend that any final actions resulting from the proposal will be based on the best scientific and commercial data available and will be as accurate and as effective as possible. Our final determinations will take into consideration all comments and any additional information we receive during all comment periods on the proposed rule.

Due to the scientific disagreements described above, we are particularly interested in new information and evidence regarding:

(1) Data on the current status, trends, habitat preferences, and life history of toothless blindcat and widemouth blindcat populations.

(2) Modeled quantitative analyses of blindcat population responses to additive mortality in the form of groundwater well expulsion and in relation to aquifer dynamics, groundwater well density, distribution, and operational history, including length-frequency analyses of both species to inform understanding of population dynamics.

(3) Documented life histories of other subterranean catfishes that could better inform understanding of the toothless blindcat's and widemouth blindcat's biology, including population responses to additive mortality.

(4) Potential for the existence of reduced predatory pressure on the toothless blindcat, resulting in increased abundance for that species, as a result of reduced widemouth blindcat numbers. (The widemouth blindcat is hypothesized to be a potential predator that feeds on suitably sized toothless blindcat individuals).

(5) Information on fish behavioral avoidance of increased water velocities.

(6) For groundwater wells known to produce both blindcats across their ranges, installation and modification history from well establishment to present (e.g., history of artesian versus pumped flow, changes in pump depth, water velocity, designated use(s) over time, and frequency of operation), vertical hydrogeologic conditions, prevalence of groundwater conduits in well capture zone, and related engineering and geological specifications.

(7) Information on current status (i.e., active or inactive), designated use, drill depth, and associated information (e.g., borehole diameters, yields, and vertical hydrogeologic conditions) of other groundwater wells within the immediate area analysis units and the potential area of occurrence, as defined in the species status assessment (Service 2023, pp. 66-67).

(8) Specific documentation for municipal groundwater wells regarding total dynamic head and 50 feet water draw depth, and potential lack of capacity for wells to draw past 50 feet depth.

(9) Genetic analyses of museum specimen tissues and additionally acquired tissue samples to ascertain the toothless blindcat's and widemouth blindcat's current and historical population size and structure, as well as potential for past genetic bottlenecks.

(10) Documentation of the continued presence of either species at known groundwater wells or discovery of the species at additional locations across the San Antonio segment of the Edwards Aquifer.

Because we will consider all comments and information we receive during all open comment periods, our final determinations may differ from our August 22, 2023, proposed rule (88 FR 57046). Based on the new information we receive (and, if relevant, any comments on that new information), we may conclude that one or both of the species is threatened instead of endangered, or we may conclude that one or both of the species does not warrant listing as either an endangered species or a threatened species. In our final rule, we will clearly explain our rationale and the basis for our final decisions, including why we made changes, if any, that differ from the August 22, 2023, proposal.

If you already submitted comments or information on the August 22, 2023, proposed rule during either of the previous two comment periods, please do not resubmit them. Any such comments are already incorporated as part of the public record of the rulemaking proceeding, and we will fully consider them in the preparation of our final determinations. Our final determinations concerning the proposed listings will take into consideration all written comments and any additional information we receive.

Comments should be as specific as possible. Please include sufficient information with your submission (such as scientific journal articles or other publications) to allow us to verify any scientific or commercial information you include. Please note that submissions merely stating support for, or opposition to, the action under consideration without providing supporting information, although noted, will not be considered in making a determination, as section 4(b)(1)(A) of the Act directs that determinations as to whether any species is an endangered species or a threatened species must be made solely on the basis of the best scientific and commercial data available.

You may submit your comments and materials by one of the methods listed in ADDRESSES. We request that you send comments only by the methods described in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov. Comments and materials we receive, as well as supporting documentation we used in preparing the proposed rule, will be available for public inspection on https://www.regulations.gov at FWS-R2-ES-2023-0069.

Authors

The primary authors of this document are the staff members of the Fish and Wildlife Service's Species Assessment Team and the Austin Ecological Services Field Office.

Authority

The Endangered Species Act of 1973, as amended (16 U.S.C. 1531 et seq.), is the authority for this action.

Gary Frazer,
Acting Director, U.S. Fish and Wildlife Service.

[FR Doc. 2024-16749 Filed 7-31-24; 8:45 am]

BILLING CODE 4333-15-P